NATIONAL CREDIT UNION ADMINISTRATION

2025 Community Development Revolving Loan Fund

AGENCY: National Credit Union Administration (NCUA).

ACTION: Notice of funding opportunity.

SUMMARY: NCUA is issuing this Notice of Funding Opportunity (NOFO) to announce the availability of funding for technical assistance grants for low-income-designated credit unions (LIDs) through the Community Development Revolving Loan Fund (CDRLF). The CDRLF provides financial support that helps credit unions support the communities in which they operate.

SUPPLEMENTARY INFORMATION:

Table of Contents

Basic Information

Eligibility

Program Description

Application Contents and Format

Submission Requirements and Deadlines

Application Review Information

Award Notices

Post-Award Requirements and Administration

Basic Information

Funding Opportunity Title: Community Development Revolving Loan Fund (CDRLF) Technical assistance grants.

Announcement Type: Initial announcement.

Funding Opportunity Number: NCUA-CDRLF-2025G.

Assistance Listing Number: 44.002.

Funding Details: We expect the total amount of funding awarded will be approximately $3,465,000. NCUA may fund, in whole or in part, any, all, or none of the applications submitted in response to this NOFO. All grant awards made under this NOFO are subject to funds availability and are at NCUA's discretion.

General information about each grant initiative's purpose and maximum award amount is provided in the Program Description section below. The average grant award for the 2024 CDRLF Grant round was approximately $26,000. Additional grant initiative information will be provided in the 2025 CDRLF Grant Round Application Guidelines found on NCUA's grant website at https://ncua.gov/support-services/credit-union-resources-expansion/grants-loans/grants.

Number of Expected Awards: 85-115.

Key Dates: This NOFO is effective on the date of publication in the Federal Register. NCUA will accept applications beginning on October 15, 2025, at 12 p.m. Eastern Time. Applications must be submitted by December 16, 2025 at 11:59 p.m. Eastern Time. Applications submitted after the application closing date and time will not be considered. Applicants will be notified of NCUA's decision after the agency's review is completed.

Executive Summary: Through the CDRLF NOFO, NCUA will provide financial support in the form of technical assistance grants to eligible credit unions to modernize, build capacity, and extend outreach to low-income members (as defined in 12 CFR 701.34) and the communities in which they operate. Agency Contact Information: If you need to contact NCUA regarding the CDRLF grant program, please email CUREAPPS@NCUA.gov or call (703) 518-6610. Please allow up to 72 business hours for a response.

The last day to contact NCUA with inquiries regarding the grant round is December 9, 2025.

Eligibility

This NOFO is open to low-income-designated credit unions that meet the eligibility requirements defined in 12 CFR part 705 and further detailed in the bulleted list below.

Requirements for a Grant Applicant

• Applicants must have a current low-income designation under 12 CFR 701.34 or 12 CFR 741.204. Applicants that are non-federally insured credit unions must have a low-income designation from a state regulator made under appropriate state standards with the concurrence of NCUA. Services to low-income members must include, at a minimum, offering share accounts and loans.

• Applicants must be a credit union that may be, or has agreed to be, examined by NCUA. See definition of Qualifying Credit Union in 12 CFR 705.2. Each applicant that is a non-federally insured, state-chartered credit union must submit additional application materials and agree to be examined by NCUA. The additional materials are more fully described in 12 CFR 705.7(b)(3). The specific terms and covenants pertaining to the agreement to be examined by NCUA will be provided in the award agreement.

• Applicants must maintain an active registration with the System for Award Management (SAM) at all times during which they have an active federal award as a recipient or an application under consideration by a federal agency. Additional details on SAM registration are listed in the SAM section below.

• Applicants must have and include a valid and current Employer Identification Number (EIN) issued by the U.S. Internal Revenue Service (IRS). NCUA will not consider an application that does not include a valid and current EIN. Information on how to obtain an EIN may be found on the IRS website. The EIN in the applicant's Cybergrants account must match the EIN in the applicant's SAM account. NCUA reserves the right to reject an application if the EIN in the applicant's Cybergrants account does not match the EIN in its SAM account.

• Applicants shall not submit an application on behalf of another organization. This prohibits any application being submitted by a consultant, subsidiary, or parent company of a LID on behalf of a LID. The LID must submit its own application.

• Applicants must meet the grant award standards established by NCUA, including those pertaining to financial viability, as set forth in the application and defined in 12 CFR 705.7(b) and 705.7(c).

• Applicants must adhere to the applicable asset size limitations and/or credit union years of operation requirements detailed in the Funding Initiatives subsection.

• Applicants that have any Capital Adequacy, Asset quality, Management, Earnings, Liquidity, and Sensitivity (CAMELS) component ratings of 4 or 5 will not receive an award of more than $25,000.

• Applicants must adhere to the limitations in the “Application Submission Limit” subsection and the asset level and age restrictions in the “Program Description” section.

• Applicants must submit applications that adhere to applicable authorizing statutes, regulations, and administrative and national policy requirements, including Executive Orders and other Presidential directives as detailed in the “Application Contents and Format” section.

• Consistent with Executive Order 14151 and Executive Order 14173, applicants must not submit comparative statistics or other demographical information on the basis of an individual's or group's race, ethnicity, sex or national origin. Consistent with Executive Order 14218, applicants will adhere to the Personal Responsibility and Work Opportunity Reconciliation Act of 1996.

• Applicants must submit applications that meet the review and criteria requirements in the “Application Review Information” section and the submission deadline requirements in the “Submission Requirements and Deadlines” section.

Application Submission Limit

NCUA will review all applications submitted. Applicants can submit up to two applications but can only receive one award. Each application submitted must be for a different initiative. Applicants that submit two applications will be required to designate each application as either their first priority application or their second priority application. If an applicant fails to designate the priority of their two applications, NCUA will use their discretion to designate the priority.

If the first priority application is selected for funding, the second priority application will not be considered for funding. However, if the first priority application is not selected for funding, the second application will be considered for funding.

Cost Sharing

Cost sharing is not required or requested for this funding announcement.

Program Description

The purpose of the CDRLF, as fully described in 12 CFR 705.1, is to assist LIDs with providing basic financial services to their members and to stimulate economic activities in their communities. The CDRLF technical assistance grant program is funded by the 2025 Full-Year Continuing Appropriations and Extensions Act, 2025, Public Law 119-4, 139 Stat. 11.

The initiatives planned for the 2025 CDRLF grant round will help eligible credit unions develop new resources that address challenges. The initiatives will also help eligible credit unions offer safe, fair, and affordable financial products to their members and communities that otherwise might go unserved by the financial system. More detailed information about project impact measurement and examples of initiative award activities are in the 2025 CDRLF Grant Application Guidelines.

Funding Initiatives

Additional details on the funding initiatives can be found in the 2025 CDRLF Grant Round Application Guidelines.

• New Charter Capacity Building ($50,000 maximum award amount): This initiative is for eligible credit unions to complete capacity building activities required to grow and meet the unique needs of their members. Eligible project activities include, but are not limited to, expenses related to:

○ Activities to drive operational improvement such as modernizing platforms, increasing efficiencies, and delivering a better customer experience.

○ Activities to increase the availability of safe, fair, and affordable products and services to low-income areas.

This initiative will provide awards to eligible credit unions that have been chartered and in operation for fewer than 10 years and have total assets of $10 million or less.

• Student Internships ($25,000 maximum award amount): This initiative is for eligible credit unions to provide compensation to high school or college students working at the credit union to enhance the credit union's capacity to better serve their members and the communities in which they operate. Eligible project activities include:

○ Costs associated with the implementation of a student internship program, such as a salary or stipend paid directly to the intern(s).

○ Acquiring equipment, software, and other necessary resources for the intern(s) to perform their duties.

To direct grant funds to credit unions with the greatest need for resources, credit unions with assets in excess of $250 million are not eligible for funding under this initiative.

○ Technology, Cybersecurity, and Artificial Intelligence ($25,000 maximum award amount): This initiative will increase low-income members' access to affordable digital financial products and services. This initiative will also be used to implement projects that feature Artificial Intelligence (AI) services and products that can be used by credit unions to improve services to members. Eligible project activities include, but are not limited to:

○ Implementation of new financial services such as bill pay and/or integration of cybersecurity protection software

○ Data analysis to analyze large data sets and identify trends, anomalies, and red flags (Bank Secrecy Act and Anti-Money Laundering)

○ Communication via chatbot or voice response and/or natural language processing offering communications in different languages.

To direct grant funds to credit unions with the greatest need for this resource, credit unions with assets in excess of $250 million are not eligible for funding under this initiative.

• Training ($25,000 maximum award amount): This initiative will support credit union activities including management training, board and staff development, and succession planning. For example, credit unions will be able to use funds to develop a management succession plan or enroll an employee in advanced training courses to enhance leadership and/or operational skills and knowledge. In accordance with Executive Order 14151 and Executive Order 14173, grant funds may not be used for training related to diversity, equity, and inclusion (DEI).

To direct grant funds to credit unions with the greatest need for this resource, credit unions with assets in excess of $100 million are not eligible for funding under this initiative.

• Underserved Outreach ($50,000 maximum award amount): This initiative will assist credit unions with innovative outreach strategies to address the needs of those who are unbanked and underbanked in the communities they serve. Applicants will be required to submit documentation of needs based on aggregate data on low-income populations or access to the services of insured depository financial institutions. Examples of project activities include opening a new service facility in a low-income area, creating financial education programs, and offering new or expanded financial products and services to address the needs of the unbanked or underbanked.

To ensure that funds for these activities reach credit unions with the greatest need regardless of size, no asset limitations will be placed on applicants for this initiative.

• Impact Through Innovation—Pilot ($100,000 maximum award amount): As part of the 2023 CDRLF Pilot grant initiative, funds for this initiative will be available only to credit unions that received a 2023 CDRLF Pilot grant under the Impact Through Innovation initiative. The Impact Through Innovation initiative is a multi-year award and is being implemented as a continuation grant. Funds are available for the third and final performance period of these projects, based on availability of funds, project performance, and compliance with reporting requirements. Credit unions are eligible to receive funding up to $100,000 in 2025.

Citations for Authorizing Statutes and Regulations

Authority:

12 U.S.C. 1772c-1, 1756, 1757(5)(D), and (7)(I), 1766, 1782, 1784, 1785 and 1786; 42 U.S.C. 9812, 9822, and 9910 (1981); and Full-Year Continuing Appropriations and Extensions Act, 2025, Sec. 1101(a)(5), Pub. L. 119-4, 139 Stat. 11.

Regulations: 12 CFR part 705 is the governing regulation that sets forth the program requirements for the CDRLF. Additional regulations related to the low-income designation are found at 12 CFR 701.34 and 741.204. For the purposes of this NOFO, an “applicant” is a Qualifying Credit Union that submits a complete application to NCUA under the CDRLF. NCUA encourages applicants to review the regulations, this NOFO, the Executive Orders mentioned in this NOFO, the 2025 CDRLF Grant Round Application Guidelines, and other program materials for a complete understanding of the program.

Application Contents and Format

Pre-applications, letters of intent, or white papers are not required or requested.

A complete application will consist of similar components for each funding initiative. At a minimum, each initiative requires a narrative that describes the applicant's proposed use of the CDRLF award. Other application contents that are specific to a particular funding initiative will be defined in the 2025 CDRLF Grant Round Application Guidelines found on NCUA's website. The application must be certified by a credit union official (such as CEO, Manager, or Board Chairperson) authorized to enter agreements with NCUA on behalf of the credit union.

Applications that do not adhere to applicable authorizing statutes, regulations, and administrative and national policy requirements, including Executive Orders and other Presidential directives, will be rejected.

Submission Requirements and Deadline

All applications must be submitted using CyberGrants, NCUA's grant management system. NCUA will accept applications through the grant system beginning October 15, 2025, at 12 p.m. Eastern. Applications must be submitted by December 16, 2025 at 11:59 p.m. Eastern. Late applications will not be considered.

Unique Entity Identifier and System for Award Management (SAM.gov)

Federal regulations require all CDRLF Applicants to have an active registration with (SAM) prior to applying for funding. SAM is a web-based, government-wide application that collects, validates, stores, and disseminates business information about the federal government's trading partners in support of the contract awards, grants, and electronic payment processes. Applicants receive a Unique Entity Identifier (UEI) upon registration in SAM and must provide this UEI with their application. Applicants must continue to maintain an active SAM registration with current information while they have active federal awards or applications or plans under consideration by a federal agency.

SAM users can register or recertify their account by following the instructions for registration (https://sam.gov/content/entity-registration). There is no charge for either the SAM registration or a recertification.

NCUA does not authorize any exemption from this active SAM registration requirement under 2 CFR 25.110(c) or (d).

Submission Instructions

Prior to applying, applicants must be registered in CyberGrants, NCUA's grant management system (https://www.cybergrants.com/pls/cybergrants/ao_login.login?x_gm_id=4469&x_proposal_type_id=27707). Applicants will also access that grant management system to access the application materials. Applications must be submitted online through that system; applications will not be accepted by mail or email. In the event of systems problems, contact NCUA at CUREApps@ncua.gov.

Intergovernmental Review

The CDRLF grant program is not subject to Executive Order 12372, “Intergovernmental Review of Federal Programs.”

Application Review Information

Responsiveness Review

Applications will be analyzed in accordance with the regulations at 12 CFR 705.3 to determine whether they meet the eligibility requirements. NCUA will review applications in accordance with E.O. 14332, “Improving Oversight of Federal grantmaking.” Failure to meet these requirements will result in rejection of the application.

Review Criteria

The merit review is conducted by NCUA personnel, and applications are analyzed based on previous experience with the CDRLF program, recent examinations and supervisory information, and the project proposed in the application. Each funding initiative, due to its structure and impact, may have different evaluation criteria assigned. NCUA will review each application to determine whether it is complete and whether the proposed use of the grant is eligible for funding. The evaluation considerations directly below are summaries of the standards used to evaluate applications. Please note that a weighted scoring method will not be used as part of the application review process. Details about the evaluation criteria and rating system are in the 2025 CDRLF Grant Round Application Guidelines.

Program Priority—Credit union asset size and previous participation in the CDRLF will be evaluated as part of NCUA's priority in reaching credit unions most in need of CDRLF funding.

Project Objective—The application will be evaluated based on how well the proposed project objectives meet the purpose of the CDRLF program as fully described in 12 CFR 705.1.

Project Budget—The budget must demonstrate that the applicant clearly understands the expenses required to successfully complete the project. The project budget must support the applicant's plan to implement the project.

Financial Viability and Examination Reports—Exam and supervisory information may be used during the analysis of the application. NCUA may assess a credit union's recent examinations or audit reports if a reviewer deems it necessary. Factors that will be considered include, but are not limited to: enforcement actions, any ongoing supervisory concerns, supervisory or oversight risks, declining financial position, and compliance risk. Exams may be used to determine the applicant's financial health and its ability to successfully manage a CDRLF grant.

Review and Selection Process

NCUA will determine the grant award amount as applicable for each application in accordance with the regulations at 12 CFR 705.7 and the evaluation process further explained in the 2025 CDRLF Grant Round Application Guidelines.

The agency will award funds to applications as noted above until the funds available are exhausted. Final award decisions are made by the Director of the Office of Credit Union Resources and Expansion (CURE) or their designee.

Risk Review

NCUA will perform a risk assessment as required by 2 CFR 200.206.

Award Notices

NCUA will notify all applicants of its funding decision by email to the contacts designated in the application after completion of its review. Eligible pre-award costs are allowed; additional detail regarding those costs will be provided in the 2025 CDRLF Grant Round Application Guidelines. The Notice of Federal Award notifies the grant applicant that their application was selected for award. The notice of Federal award is signed by the grants officer, or equivalent, and is the official document that obligates program funds. This notice will be provided through electronic means to the point of contact designated in the application. The Authorized Credit Union Official must review, electronically certify, and submit the Grant Agreement to accept the CDRLF award by the provided deadline in the notice of Federal Award. Failure to do so may result in the withdrawal of the grant award from the awardee. In addition, NCUA will announce the successful applications through a press release that includes a list of the awardees. Applicants that are approved for funding will also receive instructions on how to proceed with the post-award activities including submission of payment request and performance reports.

Post-Award Requirements and Administration

Important: The Terms and Conditions, including administrative and national policy requirements, are in the 2025 Grant Application Round Guidelines.

Reporting

Awardees must follow annual reporting requirements stated in 12 CFR 705.9(b) and submit performance reports as detailed in the 2025 CDRLF Grant Round Application Guidelines.

All post-award activities are to be completed online using CyberGrants, NCUA's grant management system.

Other Information

In addition to funding available under this NOFO, NCUA provides funding to LIDs through the CDRLF Revolving Loan and Urgent Need Grant initiatives. More information can be found in the Grants and Loans section of the agency's website.

By the National Credit Union Administration Board.
Melane Conyers-Ausbrooks,
Secretary of the Board.

[FR Doc. 2025-19091 Filed 9-30-25; 8:45 am]

BILLING CODE 7535-01-P